DEPARTMENT OF LABOR

Employment and Training Administration

Notice of Determinations Regarding Elibility to Apply for Worker Adjustment Assistance and NAFTA Transitional Adjustment Assistance

In accordance with Section 223 of the Trade Act of 1974, as amended, the Department of Labor herein presents summaries of determinations regarding eligibility to apply for trade adjustment assistance for workers (TA-W) issued during the period of October, 2000.

In order for an affirmative determination to be made and a certification of eligibility to apply for worker adjustment assistance to be issued, each of the group eligibility requirements of Section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determination for Worker Adjustment Assistance

In each of the following cases the investigation revealed that criterion (3) has not been met. A survey of customers indicated that increased imports did not contribute importantly to worker separations at the firm.

TA-W-38,115; Wallowa Forest Products, Wallowa, OR

TA-W-37,831 & A; Occedental Chemical Corp., Buffalo Avenue-Niagara Falls Plant, Niagara Falls, NY and Grand Island Technology Center, Grand Island, NY

TA-W-38,007; Tredegar Corp., Film Products, Manchester, IA

TA-W-38,061; TRW, Valve Div., Danville, PA

TA-W-37,925; Wiscassett Mills Co., Plant #6, Albemarle, NC

TA-W-37,922; Vantage Textile, d/b/a/ Fall River Mill, Fall River, MA

TA-W-37,960; Vincennes Manufacturing, Torsion Assemblies, Vincennes, TN

In the following cases, the investigation revealed that the criteria for eligibility have not been met for the reasons specified.

TA-W-38,128; Fujitsu Computer Products of America (F.C.P.A), Cleanroom, Hillsboro, OR

TA-W-38,122 & A, B; Equitable Production, Kingsport, TN, Nora, VA and Big Stone Gap, VA

TA-W-38,109; C & P Trucking Co., Inc., Attalla, AL

The workers firm does not produce an article as required for certification under Section 222 of the Trade Act of 1974.

TA-W-38,088; Heinz Pet Products Co., El Paso, TX

TA-W-38,075; Wyman Gordon, Buffalo, NY

TA-W-38,068; Boeing Commercial Aircraft Group, Salt Lake City, UT

TA-W-38,050; Shipley Ronal, Freeport, NY

TA-W-37,966; Republic Technologies International, Johnstown, PA

TA-W-38,034; Lucchese, Inc., El Paso, TX

TA-W-37,971; ARCO, d/b/a/ ARCO Exploration and Production Technology (AETP), Plano, TX

TA-W-38,060; The Gaden Grow Co., Lilly Miller Packet Seed Div., Wilsonville, OR

TA-W-38,008; Cytec Industries, Wallingford, CT

Increased imports did not contribute importantly to worker separations at the firm.

Affirmative Determinations for Worker Adjustment Assistance

The following certifications have been issued; the date following the company name and location of each determination references the impact date for all workers of such determination

TA-W-37,974; General Binding Corp., Automated Finishing Div., Auburn, Hills, MI: August 8, 1999.

TA-W-37,995; Tyco Electronics, Boyne City, MI: August 10, 1999.

TA-W-38,167; Ametek Aerospace, Wilmington, MA: September 18, 1999.

TA-W-37,934; the Pietrafesa Corp., a/k/a MS Pietrafesa LP, Liverpool, NY: July 10, 1999.

TA-W-38,099; Delco Remy America, Anderson, IN: September 6, 1999.

TA-W-38,036; Midwest Electric Producs, Inc., Mankato, MN: August 9, 1999.

TA-W-38,058; Kountry Kreations, Towanda, PA: August 24, 1999.

TA-W-37,938, Angelic Image Apparel, Louisville, MA: July 21, 1999.

TA-W-38,066; Xerox Corp., Banbury Toner Operations, Oklahoma City, OK: August 25, 1999.

TA-W-38,157; Ashland Chemical Co., Ashtabula, OH: September 11, 1999.

TA-W-37,843; Drumond Co., Inc., Shoal Creek Mine, Adger, AL: June 20, 1999.

TA-W-38,114; American Identify, Fairbury, NE: September 12, 1999.

TA-W-38,044; Louisiana Pacific Corp., Engineered Wood Products, Hines, OR: August 17, 1999.

TA-W-38,051; Burlington House Home Fashions, Stokesdale, NC: August 21, 1999.

TA-W-38,125; Santa's Best, Plush Div., Millville, NJ: October 15, 2000.

TA-W-38,079; Fawn Industries, Middlesex, NC: September 1, 1999.

TA-W-38,085; Evy of California, Los Angeles, CA: September 6, 1999.

TA-W-38,033; WTTC, Inc., Cutting Dept., Raymondville, TX: August 18, 1999.

TA-W-37,961; Jammies Manufacturing, Inc., Perth Amboy, NJ: September 31, 1999.

TA-W-38,106; Abbeville Shirtmakers, Inc., Abbeville, SC: September 7, 1999.

TA-W-38,082; Scotty's Fashions, Palmerton, PA: August 31, 1999.

TA-W-38,096; Ultima Trim, Inc., Los Indios, TX: September 1, 1999.

TA-W-37,992; Lund International, Lund Industries, Inc., Anoka, MN: August 7, 1999.

TA-W-37,956; Jockey International, Inc., Hsiery Div., Randleman, NC: August 1, 1999.

TA-W-38,027; Great Lakes Chemical Corp., Polymer Additives, Div., Laredo, TX: August 2, 1999.

TA-W-37,856; Seagate Technology, Inc., Recording Media Operations, Anaheim, CA: June 6, 1999.

TA-W-38,178; Flowserve Corp., Pump Div., Phillipsburg, NJ: September 14, 1999.

TA-W-38,002; Genlyte Thomas Group LLC, Hopkinsville, KY: August 1, 1999.

TA-W-37,910; Mallinckrodt, Inc., Respiratory Div., Carlsbad, CA: July 5, 1999.

TA-W-38,104; Garan Manufacturing Corp., Jemison, AL: August 30, 1999.

TA-W-38,108; Airboss Polymer Products Corp., South Haven, MI: September 7, 1999.

TA-W-37,964; Hampton Industries, Kingston, NC: July 20, 1999.

TA-W-38,023; Martin Mills, Inc., d/b/a Fruit of The Loom, Jet Sew Dept. St. Martinsville, LA: August 31, 1999.

TA-W-37,873 & A; Springs Industries, Inc., baby Products Div., Carvey Road Plant, Giffin, GA and Jackson Plant, Jackson, GA: June 24, 1999.

TA-W-38,028; Playtex Apparel, Inc., Newnan, GA: August 18, 1999.

TA-W-37,889 & A; Crown Pacific, Gilchrist, OR and Prineville, OR Including Temporary Workers of Mid Oregon Labor Contractors, Express Personnel and Labor Ready Employed at Crown Pacific, Gilchrist, OR and Prineville, OR: February 11, 2000.

TA-W-37,893; IKG Industries, North Plant, Nashville, TN: June 27, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of October, 2000.

In order for an affirmative determination to be made and a certification of eligibility to apply to NAFTA-TAA the following group eligibility requirements of Section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports From Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04113; U.S. Textiles Corp., Newland, NC

NAFTA-TAA-04101; The Garden Grow Co., Lilly Miller Packet Seed Div., Wilsonville, OR

NAFTA-TAA-04170; Tru-Stitch Footwear, Malone, NY

NAFTA-TAA-03968; Mar-Kel Lighting, Inc., Paris, TN

NAFTA-TAA-04157; Heinz Pet Products Co., El Paso, TX

NAFTA-TAA-04136; Banta Healthcare Group, Lakeland Plant, Eaton Park, FL

The investigation revealed that the criteria for eligibility have not been met for the reasons specified.

NAFTA-TAA-04151 & A; Equitable Production, Kingsport, TN and Nora, VA

NAFTA-TAA-04164; Avalon Payroll Group., Inc., New York, NY

NAFTA-TAA-04159; Fujitsu Computer Products of America (F.C.P.A.), Cleanroom, Hillsboro, OR

NAFTA-TAA-04077; Movies 99/New Movie Corp., Salt lake City, UT

NAFTA-TAA-0486; Eagle Precision Technologies, Inc., Eagle-Eaton Leonard, Carlsbad, CA

The investigation revealed that workers of the subject firm did not produce an article within the meaning of section 250(a) of the Trade Act, as amended.

Affirmative Determinations NAFTA-TAA

NAFTA-TAA-04066; Lund International, Lund Industries, Inc., Anoka, MN: July 31, 1999.

NAFTA-TAA-04100; Great Lakes Chemical Corp., Polymer Additives Div., Laredo, TX: August 2, 1999.

NAFTA-TAA-04116; WTTC, Inc., Cutting Department, Raymondville, TX: August 18, 1999.

NAFTA-TAA-04109; Universal Uniforms, Inc., Universal Denim Service/Garment Finishing Div., Louisville, KY: August 21, 1999.

NAFTA-TAA-04106; Unites States Leather, Lackawanna Leather, El Paso, TX: August 14, 1999.

NAFTA-TAA-04017; & A; Crown Pacific Gilchrist, OR and Prineville, OR Including Temporary Workers of Mid-Oregon Labor Contractors, Express Personnel and Labor Ready Employed at Crown Pacific Gilchrist OR and Prineville, OR: February 11, 2000.

NAFTA-TAA-04166; Flowserve Corp., Pump Div., Phillipsburg, NJ: September 14, 1999.

NAFTA-TAA-04172; Ametek Aerospace, Wilmington, MA: September 18, 1999.

NAFTA-TAA-4138; Delco Remy America, Anderson, IN: September 6, 1999.

NAFTA-TAA-04090; Midwest Electric Products, Mankato, MN: August 9, 1999.

NAFTA-TAA-04000; Spring Industries, Inc., Baby Products Div., Carver Road Plant, Griffin, GA and Jackson Plant, Jackson, GA: June 28, 1999

NAFTA-TAA-04146; AirBoss Polymer Products Corp., South Haven, MI September 7, 1999.

NAFTA-TAA-04128; Fawn Industries, Middlesex, NC: September 1, 1999.

NAFTA-TAA-04117; TRW, Valve Division, Danville, PA: August 23, 1999.

NAFTA-TAA-04118; Louisiana Pacific Corp., Engineered Wood Products, Hines, OR: August 17, 1999.

NAFTA-04074; Jockey International, Inc., Hosiery Div., Randleman, NC: August 1, 1999.

NAFTA-TAA-04135; United States Leather, Lackawanna Leather, Conovar, NC: September 7, 1999.

NAFTA-TAA-04152; Tyco Electronics, Boyne City, MI: August 10, 1999.

NAFTA-TAA-04048; The Pietrafesa Corp., a/k/a MS Pietrafesa LP, Liverpool, NY: July 10, 1999.

NAFTA-TAA-04153; General Binding Corp., Automated Finishing Div., Auburn Hills, MI: September 8, 1999.

NAFTA-TAA-04161; Evy of California, Los Angeles, CA: September 13, 1999.

NAFTA-TAA-04103; Burlington House Home Fashions, Stokesdale, NC: August 21, 1999.

I hereby certify that the aforementioned determinations were issued during the month of October, 2000. Copies of these determinations are available for inspection in Room C-5311, U.S. Department of Labor, 200 Constitution Avenue, NW., Washington, DC 20210 during normal business hours or will be mailed to persons who write to the above address.

Dated: October 25, 2000.
Edward A. Tomchick,
Director, Division of Trade Adjustment Assistance.

[FR Doc. 00-28027 Filed 10-31-00; 8:45 am]

BILLING CODE 4510-30-M